DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of December, 2002.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,311; New England Iron, LLC, Springfield, MA.

TA-W-42,159; Landis Gardner, Div. of Unova Industrial Automation Systems, Inc., Waynesboro, PA.

TA-W-42,162; Forney, Inc., Hermitage, PA.

TA-W-42,328; Stratex Newtworks, Inc., San Jose, CA.

TA-W-42,288; Warp Knit Mills, Inc., Lincolnton, NC.

In the following cases, the investigation revealed that the criteria for eligibility have not been met for the reasons specified.

Increased imports did not contribute importantly to worker separations at the firm.

TA-W-42,229 & A; Dana Corp., Traction Technologies Group, Department 606, Syracuse, IN and Department 782, Syracuse, IN.

TA-W-42,106; Pyramid Industries, Inc., a Wholly Owned Subsidiary of Lamson and Sessions, Inc., Erie, PA.

The workers firm does not produce an article as required for certification under section 222 of the Trade Act of 1974.

TA-W-50,240 & A; Erie Industrial Maintenance, Berea, OH and Erie Industrial Insulation, Berea, OH.

TA-W-50,232; Roxio, Inc., Maple Grove, MN.

TA-W-50,229; Electronic Data Systems Corp., Rochester, NY.

TA-W-52,236; Consolidated Freightways, York, PA.

TA-W-42,283; Facility Pro, Columbus, OH.

The investigation revealed that criteria (2) has not been met. Sales or production did not decline during the relevant period as required for certification.

TA-W-42,208; Englehard Corp., a Div. of The Process Technologies Group, Erie, PA.

Affirmative Determinations for Worker Adjustment Assistance

The following certifications have been issued; the date following the company name and location of each determination references the impact date for all workers of such determination.

TA-W-42,351; Johnstown Corp., Johnstown, PA: August 16, 2002.

TA-W-42,343; Wolverine World Wide, Inc., Formerly Frolic Footwear, a Div. of Wolverine Manufacturing Group, Arkansas Operations, Monette, AR: October 23, 2001.

TA-W-41,596; Carton Craft Corp., Buffalo, NY: May 8, 2001.

TA-W-42,212; Deluxe Craft Photo Albums, Inc., Chicago, IL: September 17, 2001.

TA-W-42,196; Hy-Tec Manufacturing, Stator Reclaim Line, Ada, OK: September 13, 2001.

TA-W-42,266; Presto Manufacturing Co., Jackson, MS: October 3, 2001.

TA-W-41,741; Weyerhaeuser Co., Woodburn Engineered Wood Products Div., Woodburn, OR: June 17, 2001.

The following certifications have been issued. The requirements of (a)(2)(A) (increased imports) of section 222 have been met.

TA-W-50,078 & a; Auburn Hosiery Mills, Inc., a Subsidiary of Kellwood Co., Auburn, KY and Adairville, KY: November 5, 2001.

TA-W-50,203 & A; SMS Eumuco, Inc., a Subsidiary of SMS Eumuco, GMBH, a Subisidiary of SM-AG, Pittsburgh, PA and Bellefonte, PA: November 21, 2001.

TA-W-50,153; Triangle Apparel, Inc., Parson, TN: November 20, 2001.

TA-W-50,033; CMAC of America,d/b/a Carolina Circuits, Greenville, SC: November 6, 2001.

TA-W-50,039; Vista Wood Products, Lafayette, TN: November 7, 2001.

TA-W-50,054; Universal Automotive, Inc., Cuba, MO: November 8, 2001.

TA-W-50,259; Alfred Angelo, Inc., Delray Beach, FL: November 20, 2001.

TA-W-50,238; Island Manufacturing Co., Inc., North Bergen, NJ: November 27, 2001.

TA-W-50,162; Magnivision, Inc., Miramar, FL: November 14, 2001.

TA-W-50,160; Edward Vogt Valve Co., A Branch of Flowserve, Jeffersonville, IN: November 18, 2001.

TA-W-50,157; Durango-Georgia Paper Co., St. Mary's, GA: November 14, 2001.

TA-W-50,149; New Roan Corp., Hialeah, FL: November 5, 2001.

TA-W-50,130; Lakeview Forge Co., Erie, PA: November 18, 2001.

TA-W-50,102; MMG North America, a Subsidiary of TT Electronics, Paterson, NY: November 7, 2001.

TA-W-50,099; Sweater Project, Inc., Bergen, NJ: November 7, 2001.

TA-W-50,098; Interstate Foam Processors, Inc., Passaic, NJ: November 4, 2001.

TA-W-50,088; Charles and Sons Apparel, Inc., West New York, NJ: November 7, 2001.

TA-W-50,083; Rayonier, Southeast Wood Productions Div., Lumber City, GA: November 8, 2001.

TA-W-50,067; Advanced Glassfiber Yarns, Aiken, SC: November 8, 2001.

The following certifications have been issued. The requirements of (a)(2)(B) (shift in production) of section 222 have been met.

TA-W-50,022; Andrew Corp., Richardson, TX: November 4, 2001.

TA-W-50,137; SL Outer Banks, LLC, Lumberton, NC: November 18, 2001.

TA-W-50,085; Pass and Seymour, a Subsidiary of Legrand, Concord, NC: November 12, 2001.

TA-W-50,168; Square D Company, Raleigh Plant Knightdale, NC: November 20, 2001.

TA-W-50,186; Don Shapiro Industries, Inc., d/b/a Action West, El Paso, TX: December 27, 2002.

TA-W-50,119; U.S. Repeating Arms Co., Inc., New Haven, CT: November 8, 2001.

TA-W-50,023; Andrew Corp., Burlington, IA: November 4, 2001.

TA-W-50,357; Dixon Ticonderoga Co., Inc., Sandusky Div., Sandusky, OH: December 9, 2001.

TA-W-50,269; Pass and Seymour/Legrand, Greensboro Manufacturing Plant, Whitsett, NC: December 2, 2001.

TA-W-50,267; Concise Fabricators, Inc., Tucson, AZ: October 29, 2001.

TA-W-50,236; Stryker Howmedica Osteonics Corp., a Subsidiary of Stryker Corp., Rutherford, NJ: December 4, 2001.

TA-W-50,136; Bissell Homecare, Inc., Walker, MI: November 2, 2001.

TA-W-50,096; Burlington Industries, Inc., Reidsville Weaving Plant, Reidsville, NC: November 8, 2001.

TA-W-50,068; Velvet Drive Transmission, New Bedford, MA: November 7, 2001.

TA-W-50,065; Rawlings Sporting Goods Co., Inc., Licking, MO: November 11, 2001.

TA-W-50,026; Andrew Corp., Addison, IL: November 4, 2001.

TA-W-50,047; Andrew Corp., Denton, TX: November 4, 2001.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the months of December, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06126; Furnimex Products USA, Inc., Charm House Manufacturing, Sumter, SC.

NAFTA-TAA-07654; Stratex Networks, Inc., San Jose, CA.

NAFTA-TAA-07597; Dana Corp., Traction Technologies Group, Department 606, Syracuse, IN.

The investigation revealed that the criteria for eligibility have not been met for the reasons specified.

The investigation revealed that the workers of the subject firm did not produce an article within the meaning of section 250(a) of the Trade Act, as amended.

NAFTA-TAA-07645; Findlay Industries, Inc., Eagle Pass Warehouse, Eagle Pass, TX.

The investigation revealed that criteria (2) has not been met. Sales or production, or both, did not decline during the relevant period as required for certification.

NAFTA-TAA-07660; Engelhard Corp., a Div. of The Process Technologies Group, Erie, PA.

Affirmative Determinations NAFTA-TAA

NAFTA-TAA-07593; Deluxe Craft Photo Albums, Inc., Chicago, IL: September 17, 2001.

NAFTA-TAA-06292; Weyerhaeuser Co., Woodburn Engineered Wood Products Div., Woodburn, OR: June 19, 2001.

NAFTA-TAA-07372; Permit #64414M, Naknek, AK: September 5, 2001.

NAFTA-TAA-07597A; Dana Corp., Traction Technologies Group, Department 782, Syracuse, IN: September 30, 2001.

I hereby certify that the aforementioned determinations were issued during the months of December, 2002. Copies of these determinations are available for inspection in Room C-5311, U.S. Department of Labor, 200 Constitution Avenue, NW., Washington, DC 20210 during normal business hours or will be mailed to persons who write to the above address.

Dated: December 23, 2002.
Edward A. Tomchick,
Director, Division of Trade Adjustment Assistance.

[FR Doc. 03-414 Filed 1-8-03; 8:45 am]

BILLING CODE 4510-30-P